DEPARTMENT OF ENERGY

Federal Energy Regulatory Commission

[Project No. 4900-090]

Forestport Hydro, LLC; Notice of Application Tendered for Filing With the Commission and Soliciting Additional Study Requests and Establishing Procedural Schedule for Relicensing and a Deadline for Submission of Final Amendments

Take notice that the following hydroelectric application has been filed with the Commission and is available for public inspection.

a. Type of Application: New License.

b. Project No.: 4900.

c. Date Filed: February 27, 2025.

d. Applicant: Forestport Hydro, LLC.

e. Name of Project: Forestport Hydroelectric Project.

f. Location: On the Black River in Oneida County, New York.

g. Filed Pursuant to: Federal Power Act, 16 U.S.C. 791(a)-825(r).

h. Applicant Contact: Antonio Zarella, Chief Operating Officer, Forestport Hydro, LLC, 230 Park Avenue, Suite 447, New York, NY 10169; telephone at (315) 247-0253; email at TZ@relevatepower.com.

i. FERC Contact: Erin Mocko, Project Coordinator, Great Lakes Branch, Division of Hydropower Licensing; telephone at (202) 502-8107; email at Erin.mocko@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 28, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Forestport Hydroelectric Project (P-4900-090).

m. The application is not ready for environmental analysis at this time.

n. Project Description: The existing project consists of: (1) a dam (Forestport dam) that includes: (a) a 150-foot-long west embankment with a crest elevation of 1,132.7 National Geodetic Vertical Datum 1929 (NGVD29); (b) a 315-foot-long ogee spillway with a crest elevation of 1,126.3 feet NGVD29; and (c) a 40-foot long east embankment with a crest elevation of 1,132.7 NGVD29. The Forestport dam creates an impoundment that has a surface area of approximately 118 acres at a normal pool elevation of 1,126.55 feet NGVD29.

From the impoundment, water flows through two 8-foot-wide gates to an 820-foot-long canal (Feeder Canal) that leads to a forebay (Alder Pond) that is formed by a 550-foot-long earth embankment with a crest elevation of 1,128 feet NGVD29 (Alder Pond dam). The embankment includes a 100-foot-long fuse plug emergency spillway.

From Alder Pond, water flows through an ungated outlet, located west of Alder Pond Dam, to a 1,836-foot-long power canal that includes a 20-foot-long air bladder leaf gate (Dutch Hill Wasteway) with a top elevation of 1,124.8 feet NGVD29. The power canal provides flow to a canal control structure that includes: (1) three 4-foot-long vertical slide gates; and (2) a 21-foot-long intake structure that includes a 12-foot-long stoplog gate and two 9-foot-long trashracks with 1.75-inch clear bar spacing. From the intake structure, water flows to a 323-foot-long penstock and a 68-foot-long, 32-foot-wide concrete powerhouse that includes a 3.3 megawatt (MW) S-type Kaplan turbine-generator. From the powerhouse, water is released into a 19.8-foot-long tailrace that discharges into the Black River.

The project generators are connected to the regional electric grid by six 4.16-kilovolt (kV) generator lead lines and a 4.16/46-kV transformer.

Project recreation facilities include: (1) Alder Pond parking and access area, adjacent to the east side of the Alder Pond dam; (2); Forestport impoundment parking and access area, adjacent to the Forestport dam on the northwest shore of the Forestport impoundment; (3) an approximately 1,200 foot-long portage route from the Forestport impoundment parking and access area to the Alder Pond parking and access area; (4) an approximately 150-foot-long power canal portage route around the south side of the canal control structure; and (5) a powerhouse parking and access area adjacent to the powerhouse.

The minimum and maximum hydraulic capacities of the powerhouse are 60 and 870 cubic feet per second (cfs), respectively. The average annual energy production of the project from 2019 through 2023 was 7,252 megawatt-hours.

The current license requires Forestport Hydro to operate the project in a run-of-river mode, such that outflow from the project approximates inflow. The current license also requires Forestport Hydro to release a year-round minimum flow of 140 cfs or inflow, whichever is less, to the Black River.

Forestport Hydro proposes to: (1) continue operating the project in a run-of-river mode and maintaining the surface elevation of the Forestport impoundment at 1,126.55 feet NGVD29; (2) maintain the surface elevation of Alder Pond between 1123.6 and 1,124.6 feet NGVD29; (3) release a minimum flow of 140 cfs or inflow, whichever is less, over the Forestport dam; (4) implement a draft Bat and Bald Eagle Management Plan and an Invasive Species Management Plan; (5) develop an operation compliance monitoring plan; (6) continue to maintain existing project recreation facilities and update directional and safety signage at project recreation facilities; (7) move the power canal portage take-out site to be upstream of the boat barrier; and (8) to protect cultural resources, consult with the New York State Historic Preservation Officer before beginning any land-clearing or land-disturbing activities.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-4900). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

q. Procedural Schedule: The application will be processed according to the following preliminary schedule. Revisions to the schedule will be made as appropriate.

Issue Deficiency Letter and Request Additional Information—April 2025

Issue Scoping Document 1 for comments—August 2025

Request Additional Information (if necessary)—August 2025

Issue Notice of Application Accepted for Filing—August 2025

Issue Scoping Document 2 (if necessary)—September 2025

Issue Notice of Ready for Environmental Analysis—September 2025

r. Final amendments to the application must be filed with the Commission no later than 30 days from the issuance date of the notice of ready for environmental analysis.

Dated: March 13, 2025.
Debbie-Anne A. Reese,
Secretary.

[FR Doc. 2025-04700 Filed 3-19-25; 8:45 am]

BILLING CODE 6717-01-P